FEDERAL MARITIME COMMISSION

[Docket No. 26-01]

20230930-DK-Butterfly-1, Inc., Complainant v. HMM Company Limited, Respondent; Notice of Filing of Complaint and Assignment

Notice is given that a complaint has been filed with the Federal Maritime Commission (the “Commission”) by 20230930-DK-Butterfly-1, Inc. (the “Complainant”) against HMM Company Limited (the “Respondent”). Complainant states that the Commission has subject-matter jurisdiction over the complaint pursuant to the Shipping Act of 1984, as amended, 46 U.S.C. 40101 et seq., and personal jurisdiction over Respondent as an ocean common carrier, as defined in 46 U.S.C. 40102(18), that has entered into a service contract, as defined in 46 U.S.C. 40102(21), with Complainant.

Complainant is a corporation existing under the laws of the state of New York with a mailing address in Union, New Jersey.

Complainant identifies Respondent HMM Company Limited as a company existing under the laws of the Republic of Korea with its principal place of business located in Seoul, Korea whose agent in the United States is HMM (America), Inc., a company existing under the laws of the state of Texas with its principal place of business located in Irving, Texas.

Complainant alleges that Respondent violated 46 U.S.C. 41102(c); 41104(a)(2), (10), and (14); and 46 CFR 545.5. Complainant alleges these violations arose from a practice of systematically failing to meet service commitments, the use of coercion to require payment of extracontractual surcharges prior to performance of service commitments, the assessment of demurrage and detention charges during periods of time in which Complainant's ability to pick up or return containers was constrained due to circumstances beyond its control, and other acts or omissions of Respondent.

An answer to the complaint must be filed with the Commission within 25 days after the date of service.

The full text of the complaint can be found in the Commission's electronic Reading Room at https://www2.fmc.gov/readingroom/proceeding/26-01/. This proceeding has been assigned to the Office of Administrative Law Judges. The initial decision of the presiding judge shall be issued by January 4, 2027, and the final decision of the Commission shall be issued by July 16, 2027.

(Authority: 46 U.S.C. 41301; 46 CFR 502.61(c).)

Served: January 2, 2026.
David Eng,
Secretary.

[FR Doc. 2026-00292 Filed 1-9-26; 8:45 am]

BILLING CODE 6730-02-P